DEPARTMENT OF TRANSPORTATION

Federal Aviation Administration

[Docket No. FAA-2021-0237]

Agency Information Collection Activities: Requests for Comments; Clearance of a Renewed Information Collection: Aviation Maintenance Technician Schools

AGENCY: Federal Aviation Administration (FAA), DOT.

ACTION: Notice and request for comments.

SUMMARY: In accordance with the Paperwork Reduction Act of 1995, the FAA invites public comments about our intention to request the Office of Management and Budget (OMB) approval to renew information collection. The collection involves Aviation Maintenance Technician School (AMTS) applicants and certificate holders. The information to be collected will be used to ensure AMTS applicants and certificate holders meet the requirements of part 147 prior to being certificated, and on an ongoing basis following FAA certification.

DATES: Written comments should be submitted by May 16, 2022.

ADDRESSES: Please send written comments:

By Electronic Docket: https://www.regulations.gov (Enter docket number into search field).

By email: Tanya Glines, Tanya.glines@faa.gov.

FOR FURTHER INFORMATION CONTACT: Tanya Glines by email at: Tanya.glines@faa.gov; phone: 202-380-5896.

SUPPLEMENTARY INFORMATION: Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0040.

Title: Aviation Maintenance Technician Schools.

Form Numbers: FAA Form 8610-6.

Type of Review: This is a renewal of an information collection.

Background: This information collection summarizes burden under 14 CFR part 147 regulations to be issued in accordance with Section 135 of the Aircraft Certification, Safety, and Accountability Act in Public Law 116-260, the Consolidated Appropriations Act of 2021. The collection of information includes both reporting and recordkeeping requirements related to AMTS. The information collected is provided to the certificate holder/applicant's appropriate FAA Flight Standards office in order to allow the FAA to determine compliance with the part 147 requirements for obtaining and/or retaining an FAA air agency certificate. For applicants, when all part 147 requirements have been met, an FAA air agency certificate is issued, with the appropriate ratings. For FAA certificated AMTS, the FAA uses the information collected to determine if the AMTS provides appropriate training at each location of the AMTS, meets quality control system requirements, and ensures that AMTS students receive an appropriate document showing the student is eligible to take the FAA tests to obtain a mechanic certificate.

Respondents: Approximately 10 AMTS applicants, and 182 FAA-certificated applicants respond to this collection annually.

Frequency: AMTS applicants respond one time, prior to certification. FAA-certificated AMTS respond occasionally after certification, and have ongoing recordkeeping requirements.

Estimated Average Burden per Response: 19 hours/response on average.

Estimated Total Annual Burden: 11,438 hours/year.

Issued in Washington, DC, on March 9, 2022.
Tanya A. Glines,
Aviation Safety Inspector, Office of Safety Standards, Aircraft Maintenance Division, General Aviation Branch.

[FR Doc. 2022-05352 Filed 3-14-22; 8:45 am]

BILLING CODE 4910-13-P